DEPARTMENT OF THE INTERIOR

Fish and Wildlife Service

Second Extension of the Comment Period for the Draft Recovery Plan for Coastal Plants of the Northern San Francisco Peninsula

AGENCY: Fish and Wildlife Service, Interior.

ACTION: Second extension of comment period.

SUMMARY: We, the U.S. Fish and Wildlife Service, announce a second extension of the comment period for public review of the Draft Recovery Plan for Coastal Plants of the Northern San Francisco Peninsula for an additional 60 days. The first extended comment period closed on May 6, 2002. We are extending the comment period for a second time in response to a specific request from the National Park Service, Golden Gate National Recreation Area (GGNRA), to allow additional time for public review of this draft recovery plan that includes the endangered San Francisco lessingia (Lessingia germanorum; lessingia) and the Raven's manzanita (Arctostaphylos hookeri ssp. ravenii; manzanita). The portion of the plan dealing with the manzanita is a revision of the 1984 Raven's Manzanita Recovery Plan. Additional species of concern that will benefit from recovery actions taken for these plants are also discussed in the draft recovery plan. The draft plan includes recovery criteria and measures for the lessingia and manzanita.

DATES: Comments on the draft recovery plan must be received on or before September 9, 2002.

ADDRESSES: Copies of the draft recovery plan are available for inspection, by appointment, during normal business hours at the following location: Sacramento Fish and Wildlife Office, 2800 Cottage Way, W-2605, Sacramento, California (telephone 916-414-6600). Requests for copies of the draft recovery plan and written comments and materials regarding this plan should be addressed to Wayne S. White, Field Supervisor, Ecological Services, at the above Sacramento address.

FOR FURTHER INFORMATION CONTACT: Chris Nagano or Kyle Merriam, Endangered Species Division, at the above address.

SUPPLEMENTARY INFORMATION:

Background

The comment period for the public review of the Draft Recovery Plan for Coastal Plants of the Northern San Francisco Peninsula has previously been extended for 60 days to address public concern that the plan had been difficult to obtain as a result of the government-wide restriction of internet access. This extended comment period closed on May 6, 2002. On April 19, 2002, we received a request from the GGNRA, to extend the comment period for an additional 60 days. GGNRA asserted they required additional time to review the plan due to its complexity, and to the relevance of the plan to activities within the GGNRA. Based on this request, we determined to extend the comment period a second time for public review of the draft recovery plan.

Recovery of endangered or threatened animals and plants is a primary goal of our endangered species program. A species is considered recovered when the species' ecosystem is restored and/or threats to the species are removed so that self-sustaining and self-regulating populations of the species can be supported as persistent members of native biotic communities. Recovery plans describe actions considered necessary for conservation of the species, establish recovery criteria for downlisting or delisting species, and estimate time and cost for implementing the measures needed for recovery.

The Endangered Species Act of 1973, as amended in 1988 (Act) (16 U.S.C. 1531 et seq.), requires the development of recovery plans for listed species unless such a plan would not promote the conservation of a particular species. Section 4(f) of the Act requires that public notice and an opportunity for public review and comment be provided during recovery plan development. We will consider all information presented during the public comment period prior to approval of each new or revised recovery plan. Substantive technical comments may result in changes to the plan. Substantive comments regarding recovery plan implementation may not necessarily result in changes to the recovery plan, but will be forwarded to appropriate Federal or other entities so that they can take these comments into account during the course of implementing recovery actions.

The lessingia and manzanita are restricted to the San Francisco peninsula in San Francisco County, California. The lessingia, an annual herb in the aster family, is restricted to coastal sand deposits. The manzanita, a rare evergreen creeping shrub in the heath family, was historically restricted to a few scattered serpentine outcrops. Habitat loss, adverse alteration of ecological processes, and the invasion of non-native plant species threatens the lessingia. The manzanita has also been threatened by habitat loss, and the primary current threats include the invasion of non-native vegetation and fungal pathogens. The draft recovery plan also makes reference to several other federally listed species which are ecologically associated with the lessingia and manzanita, but which are treated comprehensively in other recovery plans. These species are the beach layia (Layia carnosa), the Presidio clarkia (Clarkia franciscana), the Marin dwarf-flax (Hesperolinon congestum), the Myrtle's silverspot butterfly (Speyeria zerene myrtleae), and the bay checkerspot butterfly (Euphydryas editha bayensis). In addition, 16 plant species of concern and 17 plant species of local or regional conservation significance are considered in this recovery plan.

The draft recovery plan stresses re-establishing dynamic persistent populations of the lessingia and manzanita within plant communities which have been restored to as “self-sustaining” as possible within urban wildland reserves. Specific recovery actions for the lessingia focus on the restoration and management of large dynamic mosaics of coastal dune areas supporting shifting populations within the species' narrow historic range. Recovery of the manzanita may include, but may not be limited to, the strategy of the 1984 Raven's Manzanita Recovery Plan, which emphasized the stabilization of the single remaining genetic individual. The draft plan also recommends re-establishing multiple sexually reproducing populations of manzanita in association with its historically associated species of local serpentine outcrops. The objectives of this recovery plan are to delist the lessingia and to downlist the manzanita through implementation of a variety of recovery measures including (1) protection and restoration of a series of ecological reserves (often with mixed recreational and conservation park land uses); (2) promotion of population increases of the lessingia and manzanita within these sites, or reintroduction of them to restored sites; (3) management of protected sites, especially the extensive eradication or suppression of invasive dominant non-native vegetation; (4) research; and (5) public participation, outreach, and education.

Authority

The authority for this action is section 4(f) of the Endangered Species Act, 16 U.S.C. 1533(f).

Steve Thompson,
Manager, California/Nevada Operations Office, Region 1, Fish and Wildlife Service.

[FR Doc. 02-17070 Filed 7-8-02; 8:45 am]

BILLING CODE 4310-55-P